DEPARTMENT OF HEALTH AND HUMAN SERVICES

Administration for Community Living

Agency Information Collection Activities; Submission for OMB Review; Public Comment Request; Office of Healthcare Information and Counseling (OHIC) Profiles at ACL OMB# 0985-New

AGENCY: Administration for Community Living, HHS.

ACTION: Notice.

SUMMARY: The Administration for Community Living is announcing that the proposed collection of information listed above has been submitted to the Office of Management and Budget (OMB) for review and clearance as required under section 506(c)(2)(A) of the Paperwork Reduction Act of 1995. This 30-day notice collects comments on the information collection requirements related to the Office of Healthcare Information and Counseling (OHIC) Profiles project at ACL.

DATES: Comments on the collection of information must be submitted electronically by 11:59 p.m. (EST) or postmarked by March 10, 2023.

ADDRESSES: Submit written comments and recommendations for the proposed information collection within 30 days of publication of this notice to www.reginfo.gov/public/do/PRAMain Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Kristen Robinson, Evaluation@acl.hhs.gov 202-795-7428.

SUPPLEMENTARY INFORMATION: In compliance with 44 U.S.C. 3507, ACL has submitted the following proposed collection of information to OMB for review and clearance. The Administration for Community Living (ACL) is currently engaged in an effort to streamline and standardize grantee profiles across three programs managed by the Office of Healthcare Information and Counseling (OHIC): the State Health Insurance Assistance Program (SHIP), Senior Medicare Patrol (SMP), and Medicare Improvements for Patients and Providers Act (MIPPA). Grantees in each program must adhere to a specific set of reporting requirements and associated reporting schedules outlined in their Program Reporting Guidelines. While reporting requirements are effective in ensuring grantees data, there is no consistency or uniformity in how individual grantees submit their data.

For example, SHIP profiles currently exist; these profiles are accessible to the SHIP grantee network via the program's technical assistance center, and they can be updated directly by grantee states. SMP and MIPPA profiles have yet to be developed. The goal of this data collection effort is to obtain consistent data elements for the three programs that will allow ACL to reimagine the existing profiles into a comparable set of data elements across programs.

These data will allow RTI International, a contractor to ACL, to develop an updated set of grantee profiles that are accessible, visually appealing, and consistent across programs. Specifically, the purpose of this data collection effort is to update the SHIP grantee profiles, which were last updated in 2016, and develop similar profiles for SMP and MIPPA. These profiles will be internal to ACL and will only be shared with grantees.

A web-based questionnaire will be emailed to all 125 grant managers (representing 54 states and territories) electronically via Smartsheet. The collected data will be imported into a dataset and will be used to create program profiles accessible to ACL and grantees.

Comments in Response to the 60-Day Federal Register Notice

A notice published in the Federal Register 87 FR 65068-65069 on October 27, 2022. Zero public comments were received during the 60-day FRN. ACL's responses to these comments are included below.

Estimated Program Burden

ACL estimates the burden of this collection of information as follows:

A maximum of 125 grantees are expected to respond to the web-based data collection instrument. The approximate burden for pre-data collection preparation is 30 minutes per respondent and approximate burden for form completion is 20 minutes per respondent for a total annual estimate of 103.75 hours. The estimated completion burden includes time to review the instructions, read the questions and complete and responses.

IC Burden Chart
Respondent/data collection activity | Number of respondents | Responses per respondent | Hours per response | Annual burden hours
Pre-data collection preparation | 125 | 1 | 0.5 | 62.5
Web-based data collection | 125 | 1 | 0.33 | 41.25
Total | 125 | 1 | 0.83 | 103.75

Dated: February 3, 2023.
Alison Barkoff,
Acting Administrator and Assistant Secretary for Aging.

[FR Doc. 2023-02673 Filed 2-7-23; 8:45 am]

BILLING CODE 4154-01-P